NATIONAL TRANSPORTATION SAFETY BOARD

Sunshine Act Meeting

Time and Date: 9:30 a.m., Tuesday, July 13, 2010.

Place: NTSB Conference Center, 429 L'Enfant Plaza SW., Washington, DC 20594.

Status: The ONE item is open to the public.

Matter To Be Considered

8081A Aircraft Accident Report—Runway Side Excursion During Attempted Takeoff in Strong and Gusty Crosswind Conditions, Continental Airlines Flight 1404, Boeing 737-500, N18611, Denver, Colorado, December 20, 2008.

News Media Contact: Telephone: (202) 314-6100.

The press and public may enter the NTSB Conference Center one hour prior to the meeting for set up and seating.

Individuals requesting specific accommodations should contact Rochelle Hall at (202) 314-6305 by Friday, July 9, 2010.

The public may view the meeting via a live or archived webcast by accessing a link under “News & Events” on the NTSB home page at http://www.ntsb.gov.

FOR FURTHER INFORMATION CONTACT: Candi Bing, (202) 314-6403.

Friday, June 25, 2010.
Candi R. Bing,
Federal Register Liaison Officer.

[FR Doc. 2010-15910 Filed 6-25-10; 4:15 pm]

BILLING CODE 7533-01-P